NUCLEAR REGULATORY COMMISSION

[NRC-2009-0234]

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from May 21, 2009, to June 3, 2009. The last biweekly notice was published on June 2, 2009 (74 FR 26428).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, TWB-05-B01M, Division of Administrative Services, Office of Administration, U.S. Nuclear Regulatory Commission, Washington, DC 20555-0001, and should cite the publication date and page number of this Federal Register notice. Copies of written comments received may be examined at the Commission's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearing.docket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC electronic filing Help Desk, which is available between 8 a.m. and 8 p.m., Eastern Time, Monday through Friday, excluding government holidays. The electronic filing Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First-class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as Social Security numbers, home addresses, or home phone numbers in their filings, unless an NRC regulation or other law requires submission of such information. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.govnrc.gov.

FirstEnergy Nuclear Operating Company, et al., Docket No. 50-346, Davis-Besse Nuclear Power Station, Unit No. 1, Ottawa County, Ohio

Date of amendment request: April 15, 2009.

Description of amendment request: The proposed amendment would incorporate the use of alternate methodologies for the calculation of reactor pressure vessel beltline weld initial reference temperatures, the calculation of the adjusted reference temperatures (ARTs), the development of the reactor pressure vessel pressure-temperature (P-T) limit curves, and the low temperature reactor coolant system (RCS) overpressure analysis into Technical Specification (TS) 5.6.4. The amendment would also revise the analysis requirement for the low temperature RCS overpressure events from 21 to 32 Effective Full Power Years (EFPY) contained in Operating License (OL) Condition 2.C(3)(d).

Basis for proposed no significant hazards consideration determination: As required by 10 CFR 50.91(a), the licensee has provided its analysis of the issue of no significant hazards consideration, which is presented below.

1. Does the proposed change involve a significant increase in the probability or consequences of an accident previously evaluated?

Response: No.

The amendment request proposes two changes to the TS/OL. The first change incorporates the use of alternative methodologies to develop the [Davis-Besse Nuclear Power Station, Unit No. 1] DBNPS P-T limit curves and [low temperature over pressure] LTOP limits into TS 5.6.4 to augment the existing listed methodology of BAW-10046A, Revision 2. The second change revises OL Condition 2.C(3)(d) to reflect the revised LTOP analysis is valid to 32 EFPY.

The first change incorporates the use of Topical Report BAW-2308, Revisions 1-A and 2-A; modified ORNL/TM 2006/530 equations, and ASME Code Cases N-588 and N-640. The topical report and ASME code cases have been approved or accepted for use by the [Nuclear Regulatory Commission] NRC (provided that any conditions/limitations are satisfied). The modified ORNL/TM 2006/530 equations result in a more conservative ART value for the limiting reactor vessel component. The proposed additions to the methodologies for the reactor vessel P-T curve development provide an acceptable means of satisfying the requirements of 10 CFR 50, Appendix G. The proposed additions do not alter the design or function of any plant equipment. Therefore, the proposed additions do not affect the probability or consequences of any previously evaluated accidents, including reactor coolant pressure boundary failures.

The second change is considered administrative in nature and reflects the revised methodologies. It will not alter the design or operation of any plant equipment. Therefore, the proposed change does not affect the probability or consequences of any previously evaluated accidents.

2. Does the proposed change create the possibility of a new or different kind of accident from any accident previously evaluated?

Response: No.

The amendment request proposes two changes to the TS/OL. The first change incorporates the use of alternative methodologies to develop the DBNPS P-T limit curves and LTOP limits into TS 5.6.4 to augment the existing listed methodology of BAW-10046A, Revision 2. The second change revises OL Condition 2.C(3)(d) to reflect that the revised analysis is valid to 32 EFPY.

The first change incorporates methodologies that either have been approved or accepted for use by the NRC (provided that any conditions/limitations are satisfied), or are conservative to current methodologies. The changes do not alter the design or function of any plant equipment. The P-T limit curves and LTOP limits will provide the same level of protection to the reactor coolant boundary as was previously evaluated. Therefore, the proposed changes do not create the possibility of a new or different kind of accident from any accident previously evaluated.

The second change is considered administrative in nature and reflects the revised methodologies. It will not alter the design or operation of any plant equipment. Therefore, the proposed change does not create the possibility of a new or different kind of accident from any accident previously evaluated.

3. Does the proposed change involve a significant reduction in a margin of safety?

Response: No.

The amendment request proposes two changes to the TS/OL. The first change incorporates the use of alternative methodologies to develop the DBNPS P-T limit curves and LTOP limits into TS 5.6.4 to augment the existing listed methodology of BAW-10046A, Revision 2. The second change revises OL Condition 2.C(3)(d) to reflect that the revised analysis is valid to 32 EFPY.

The first change incorporates methodologies that either have been approved or accepted for use by the NRC (provided that any conditions/limitations are satisfied), or are conservative to current methodologies. The second change is considered administrative in nature and reflects the revised methodologies. The changes do not alter the design or function of any plant equipment. The P-T limit curves and LTOP limits will provide the same level of protection to the reactor coolant boundary as was previously evaluated. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Russell Gibbs.

Nine Mile Point Nuclear Station, LLC, (NMPNS) Docket No. 50-410, Nine Mile Point Nuclear Station Unit No. 2 (NMP 2), Oswego County, New York

Date of amendment request: March 30, 2009.

Description of amendment request: The proposed amendment would modify Technical Specification (TS) 3.8.1, “AC Sources—Operating,” by revising certain Surveillance Requirements (SRs) pertaining to the Division 3 emergency diesel generator (DG). The Division 3 DG is an independent source of onsite alternating current (AC) power dedicated to the high-pressure core spray (HPCS) system. The TSs currently prohibit performing the DG testing required by certain SRs in either Modes 1 or 2 or in Modes 1, 2, or 3. The proposed amendment would also remove these mode restrictions and allow certain SRs to be performed in any operating Mode for the Division 3 DG.

Basis for proposed no significant hazards consideration determination: As required by 10 CFR 50.91(a), the licensee has provided its analysis of the issue of no significant hazards consideration, which is presented below:

1. Does the proposed amendment involve a significant increase in the probability or consequences of an accident previously evaluated?

Response: No.

The Division 3 (HPCS) DG and its associated emergency loads are accident mitigating features, not accident initiators. Therefore, the proposed TS changes to allow the performance of Division 3 DG surveillance testing in any plant operating mode will not significantly impact the probability of any previously evaluated accident.

The design of plant equipment is not being modified by the proposed changes. As such, the ability of the Division 3 DG to respond to a design basis accident will not be adversely impacted by the proposed changes. The proposed changes to the TS surveillance testing requirements for the Division 3 DG do not affect the operability requirements for the DG, as verification of such operability will continue to be performed as required. Continued verification of operability supports the capability of the Division 3 DG to perform its required function of providing emergency power to HPCS system equipment, consistent with the plant safety analyses. Limiting testing to only one DG at a time ensures that design basis requirements are met. Should a fault occur while testing the Division 3 DG, there would be no significant impact on any accident consequences since the other two divisional DGs and associated emergency loads would be available to provide the minimum safety functions necessary to shut down the unit and maintain it in a safe shutdown condition.

Therefore, the proposed change does not involve a significant increase in the probability or consequences of an accident previously evaluated.

2. Does the proposed amendment create the possibility of a new or different kind of accident from any accident previously evaluated?

Response: No.

No changes are being made to the plant that would introduce any new accident causal mechanism. Equipment will be operated in the same configuration with the exception of the plant operating mode in which the Division 3 DG surveillance testing is conducted. Performance of these surveillances tests while online will continue to verify operability of the Division 3 DG. The proposed amendment does not impact any plant systems that are accident initiators and does not adversely impact any accident mitigating systems.

Therefore, the proposed amendment does not create the possibility of a new or different kind of accident from any previously evaluated.

3. Does the proposed amendment involve a significant reduction in a margin of safety?

Response: No.

Margin of safety is related to confidence in the ability of the fission product barriers (fuel cladding, reactor coolant system, and primary containment) to perform their design functions during and following postulated accidents. The proposed changes to the TS surveillance testing requirements for the Division 3 DG do not affect the operability requirements for the DG, as verification of such operability will continue to be performed as required. Continued verification of operability supports the capability of the Division 3 DG to perform its required function of providing emergency power to HPCS system equipment, consistent with the plant safety analyses. Consequently, the performance of the fission product barriers will not be adversely impacted by implementation of the proposed amendment. In addition, the proposed changes do not alter setpoints or limits established or assumed by the accident analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mark J. Wetterhahn, Esquire, Winston & Strawn, 1700 K Street, NW., Washington, DC 20006.

NRC Acting Branch Chief: Douglas V. Pickett.

Northern States Power Company—Minnesota, Docket No. 50-263, Monticello Nuclear Generating Plant (MNGP), Wright County, Minnesota

Northern States Power Company—Minnesota, Docket Nos. 50-282 and 50-306, Prairie Island Nuclear Generating Plant, Units 1 and 2 (PINGP), Goodhue County, Minnesota

Date of amendment request: April 15, 2009.

Description of amendment request: The proposed amendments would delete those portions of the Technical Specifications (TSs) superseded by 10 CFR part 26, subpart I. The proposed change is consistent with Nuclear Regulatory Commission (NRC)-approved Technical Specification Task Force (TSTF) Improved Standard TS Change Traveler, TSTF-511, “Eliminate Working Hour Restrictions from TS 5.2.2 to Support Compliance with 10 CFR Part 26,” Revision 0. The availability of this TS improvement was announced in the Federal Register (FR) on December 30, 2008 (73 FR 79923) as part of the consolidated line item improvement process. The licensee concluded that the no significant hazards consideration determination as presented in the FR notice is applicable to MNGP and PINGP.

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety-related functions. The Technical Specification restrictions are superseded by the worker fatigue requirements in 10 CFR part 26. Removal of the Technical Specification requirements will be performed concurrently with the implementation of the 10 CFR part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated. Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety-related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or [affect] the function of plant systems or the manner in which systems are operated, maintained, modified, tested, or inspected.

Therefore, the proposed change does not create the possibility of a new or different kind of accident from any [accident] previously evaluated.

Criterion 3: The Proposed Change Does Not Involve a Significant Reduction in a Margin of Safety

The proposed change removes Technical Specification restrictions on working hours for personnel who perform safety-related functions. The Technical Specification restrictions are superseded by the worker fatigue requirements in 10 CFR Part 26. The proposed change does not involve any physical changes to [the plants] or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plants and to maintain the plants in a safe shutdown condition.

Removal of plant-specific Technical Specification administrative requirements will not reduce a margin of safety because the requirements in 10 CFR part 26 are adequate to ensure that worker fatigue is managed.

Therefore, the proposed change does not involve a significant reduction in a margin of safety.

The NRC staff has reviewed the analysis adopted by the licensee and, based on this review, it appears that the three standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401.

NRC Branch Chief: Lois M. James.

Pacific Gas and Electric Company, Docket Nos. 50-275 and 50-323, Diablo Canyon Nuclear Power Plant, Unit Nos. 1 and 2, San Luis Obispo County, California

Date of amendment request: May 5, 2009.

Description of amendment request: The proposed amendments would delete those portions of Technical Specifications (TS) superseded by Title 10 of the Code of Federal Regulations (10 CFR) Part 26, Subpart I, consistent with the U.S. Nuclear Regulatory Commission (NRC)-approved Technical Specification Task Force (TSTF) Improved Standard Technical Specification Change Traveler, TSTF-511, Revision 0, “Eliminate Working Hour Restrictions from TS 5.2.2 to Support Compliance with 10 CFR Part 26.”

The NRC staff issued a “Notice of Availability of Model Safety Evaluation, Model No Significant Hazards Determination, and Model Application for Licensees That Wish to Adopt TSTF-511, Revision 0, `Eliminate Working Hour Restrictions from TS 5.2.2 to Support Compliance with 10 CFR Part 26,’ ” in the Federal Register on December 30, 2008 (73 FR 79923). The notice included a model safety evaluation, a model no significant hazards consideration (NSHC) determination, and a model license amendment request. In its application dated May 5, 2009, the licensee affirmed the applicability of the model NSHC determination.

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change removes TS restrictions on working hours for personnel who perform safety-related functions. The TS restrictions are superseded by the worker fatigue requirements in 10 CFR part 26. Removal of the TS requirements will be performed concurrently with the implementation of the 10 CFR part 26, subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes TS restrictions on working hours for personnel who perform safety-related functions. The TS restrictions are superseded by the worker fatigue requirements in 10 CFR part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The Proposed Change Does Not Involve a Significant Reduction in a Margin of Safety

The proposed change removes TS restrictions on working hours for personnel who perform safety-related functions. The TS restrictions are superseded by the worker fatigue requirements in 10 CFR part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shut down the plant and to maintain the plant in a safe shutdown condition.

Removal of plant-specific TS administrative requirements will not reduce a margin of safety because the requirements in 10 CFR part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Jennifer Post, Esq., Pacific Gas and Electric Company, P.O. Box 7442, San Francisco, California 94120.

NRC Branch Chief: Michael T. Markley.

STP Nuclear Operating Company, Docket Nos. 50-498 and 50-499, South Texas Project, Units 1 and 2, Matagorda County, Texas

Date of amendment request: March 3, 2009.

Description of amendment request: The proposed amendments would delete those portions of Technical Specifications (TS) superseded by Title 10 of the Code of Federal Regulations (10 CFR) Part 26, Subpart I, consistent with the U.S. Nuclear Regulatory Commission (NRC)-approved Technical Specification Task Force (TSTF) Improved Technical Specification Change Traveler, TSTF-511, Revision 0, “Eliminate Working Hour Restrictions from TS 5.2.2 to Support Compliance with 10 CFR Part 26.” In its application dated March 3, 2009, the licensee proposed one variation to the model application, a change to the applicable TS section from TS 5.2.2 to TS 6.2.2.

The NRC staff issued a “Notice of Availability of Model Safety Evaluation, Model No Significant Hazards Determination, and Model Application for Licensees That Wish to Adopt TSTF-511, Revision 0, `Eliminate Working Hour Restrictions from TS 5.2.2 to Support Compliance with 10 CFR Part 26,' ” in the Federal Register on December 30, 2008 (73 FR 79923). The notice included a model safety evaluation, a model no significant hazards consideration (NSHC) determination, and a model license amendment request. In its application dated March 3, 2009, the licensee affirmed the applicability of the model NSHC determination, which is presented below.

Basis for proposed no significant hazards consideration determination: As required by 10 CFR 50.91(a), an analysis of the issue of NSHC adopted by the licensee, is presented below:

Criterion 1: The Proposed Change Does Not Involve a Significant Increase in the Probability or Consequences of an Accident Previously Evaluated

The proposed change removes TS restrictions on working hours for personnel who perform safety related functions. The TS restrictions are superseded by the worker fatigue requirements in 10 CFR part 26. Removal of the TS requirements will be performed concurrently with the implementation of the 10 CFR part 26, subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes TS restrictions on working hours for personnel who perform safety related functions. The TS restrictions are superseded by the worker fatigue requirements in 10 CFR part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

Criterion 3: The Proposed Change Does Not Involve a Significant Reduction in a Margin of Safety

The proposed change removes TS restrictions on working hours for personnel who perform safety related functions. The TS restrictions are superseded by the worker fatigue requirements in 10 CFR part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific TS administrative requirements will not reduce a margin of safety because the requirements in 10 CFR part 26 are adequate to ensure that worker fatigue is managed.

Therefore, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Branch Chief: Michael T. Markley.

Tennessee Valley Authority, Docket Nos. 50-327 and 50-328, Sequoyah Nuclear Plant, Units 1 and 2, Hamilton County, Tennessee

Date of amendment request: April 21, 2009 (TSC 07-05).

Description of amendment request: The proposed amendment would revise the Technical Specifications (TSs) and upgrade the Emergency Core Cooling System (ECCS) requirements to be more consistent with NUREG-1431, Revision 3, “Standard Technical Specifications—Westinghouse Plants.” The upgrade revises Sequoyah Nuclear Plant, Units 1 and 2 TS Section 3/4.5.2, “ECCS Subsystems—Tavg Greater Than or Equal to 350 °F,” TS Section 3/4.5.3, “ECCS Subsystems—Tavg Less Than 350 °F,” and the corresponding surveillance requirements (SRs) that will resolve a non-confirming condition associated with SR 4.5.2.f.

Basis for proposed no significant hazards consideration determination: As required by 10 CFR 50.91(a), the licensee has provided its analysis of the issue of no significant hazards consideration, which is presented below:

1. The proposed amendment does not involve a significant increase in the probability or consequences of an accident previously evaluated.

TVA's proposed change is not considered to be a significant departure from the current requirements and is considered an upgrade for Sequoyah Nuclear Plant's (SQN's) emergency core cooling system (ECCS) technical specification (TS) requirements. The ECCS is qualified and designed to provide core cooling and negative reactivity to ensure the reactor core is protected in the event of a loss of coolant accident (LOCA), rod ejection accident, loss of secondary coolant accident, and steam generator tube rupture (SGTR). The proposed change does not alter qualification or design features associated with SQN's ECCS. The probability of occurrence of an accident is not increased as the changes do not affect the system's capability for performing ECCS operation during injection, cold leg recirculation, and hot leg recirculation. The proposed changes continue to ensure that SQN's ECCS satisfies 10 CFR 50.46 and 10 CFR 50, Appendix A requirements. Therefore, the proposed amendment does not involve a significant increase in the probability or consequences of an accident previously evaluated.

2. The proposed amendment does not create the possibility of a new or different kind of accident from any accident previously evaluated.

The possibility for a new or different kind of accident from any accident previously evaluated does not exist as a result of the proposed changes. The upgrade of SQN TSs to industry Improved Standard TS (ISTS) requirements provide an overall improvement and ensures that SQN's ECCS is capable of performing the design functions under accident conditions. The system design associated with injection, cold leg recirculation, and hot leg recirculation, remain unchanged. Accordingly, the proposed change does not create the possibility of a new or different kind of accident from any accident previously evaluated.

3. The proposed amendment does not involve a significant reduction in a margin of safety.

The proposed upgrade of SQN's ECCS TSs to the ISTS does not affect existing safety margins. The system requirements continue to require that ECCS components are operable for plant operation (Modes 1, 2, and 3) and during plant shutdown (Mode 4). In addition, the proposed change does not increase the risk for an accident because no physical changes to the plant are being made and design features associated with ECCS continue to satisfy 10 CFR 50.46 requirements. Accordingly, TVA concludes that the margin of safety has not been reduced.

The NRC staff has reviewed the licensee's analysis and, based on this review, it appears that the three standards of 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Thomas H. Boyce.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Dominion Energy Kewaunee, Inc. Docket No. 50-305, Kewaunee Power Station (KPS), Kewaunee County, Wisconsin

Date of amendment request: August 14, 2008.

Description of amendment request: The amendment changed Section 4.4.f.1 of the Technical Specifications to require verification that the 36-inch containment purge and vent isolation valves are sealed closed when the reactor is at greater than Cold Shutdown Conditions. The previous Section 4.4.f.1 required such verification when the reactor is critical.

Date of issuance: June 1, 2009.

Effective date: As of the date of issuance and shall be implemented within 60 days.

Amendment No.: 206.

Facility Operating License No. DPR-43: The amendment revised the Technical Specifications.

Date of initial notice in Federal Register: September 9, 2008 (73 FR 52414).

The Commission's related evaluation of the amendment is contained in a safety evaluation dated June 1, 2009.

Attorney for licensee: Lillian M. Cuoco, Senior Counsel, Dominion Resources Services, Inc., Counsel for Dominion Energy Kewaunee, Inc., 120 Tredegar Street, Richmond, VA 23219.

NRC Branch Chief: Lois M. James.

Entergy Nuclear Operations, Inc., Docket No. 50-247, Indian Point Nuclear Generating Unit No. 2, Westchester County, New York

Date of application for amendment: July 30, 2008, as supplemented February 2 and May 7, 2009.

Brief description of amendment: The amendment revises the Technical Specifications (TSs) by allowing a one-time extension to TS 3.8.1, Required Action A.4, to support replacement of a cooling oil pump on the station auxiliary transformer. Specifically, the Completion Time to restore operability of the offsite circuit associated with the station auxiliary transformer would be extended from 72 hours to 144 hours.

Date of issuance: May 27, 2009.

Effective date: As of the date of issuance, and shall be implemented within 30 days.

Amendment No.: 260.

Facility Operating License No. DPR-26: The amendment revised the License and the Technical Specifications.

Date of initial notice in Federal Register: August 27, 2008 (73 FR 50649)

The February 2 and May 7, 2009, supplements provided additional information that clarified the application, did not expand the scope of the application as originally noticed, and did not change the NRC staff's original proposed no significant hazards consideration determination as published in the Federal Register.

The Commission's related evaluation of the amendment is contained in a Safety Evaluation dated May 27, 2009.

No significant hazards consideration comments received: No.

Entergy Operations, Inc., Docket No. 50-382, Waterford Steam Electric Station, Unit 3, St. Charles Parish, Louisiana

Date of amendment request: September 18, 2008, as supplemented by letter dated February 26, 2009.

Brief description of amendment: The amendment revised Action Statements `a' and `b' of Technical Specification 3/4.9.6, “Refueling Machine,” to clarify acceptability of placing a suspended fuel assembly or control element assembly within the reactor vessel in a safe condition while restoring the refueling machine operability.

Date of issuance: June 4, 2009.

Effective date: As of the date of issuance and shall be implemented prior to the start of the fall 2009 refueling outage (RF16) fuel movement.

Amendment No.: 220.

Facility Operating License No. NPF-38: The amendment revised the Facility Operating License and Technical Specifications.

Date of initial notice in Federal Register: December 30, 2008 (73 FR 79931). The supplemental letter dated February 26, 2009, provided additional information that clarified the application, did not expand the scope of the application as originally noticed, and did not change the staff's original proposed no significant hazards consideration determination as published in the Federal Register.

The Commission's related evaluation of the amendment is contained in a Safety Evaluation dated June 4, 2009.

No significant hazards consideration comments received: No.

Florida Power Corporation, et al., Docket No. 50-302, Crystal River Unit No. 3 Nuclear Generating Plant, Citrus County, Florida

Date of application for amendment: August 28, 2008, supplemented by letter dated January 19, 2009.

Brief description of amendment: The amendment revises the Crystal River Unit 3 (CR-3) Improved Technical Specifications to implement the Technical Specifications Task Force Standard Technical Specification Change Traveler 449, Revision 4 inspection requirements for the replacement once through steam generators (OTSGs) that are being installed during the CR-3 fall 2009 refueling outage. The replacement OTSGs differ from the existing OTSGs in that the tube material is Alloy 690 thermally treated in the replacements versus Alloy 600 in the existing OTSGs. Additionally, this amendment removes inspection requirements that are designated for specific damage conditions in the existing OTSGs, remove tube repair techniques approved by the license amendment No. 233, dated May 16, 2007, for the existing OTSGs, and remove inspection and reporting requirements specific to those repair techniques.

Date of issuance: May 29, 2009.

Effective date: Date of issuance, to be implemented upon startup from Refueling Outage R16.

Amendment No.: 234.

Facility Operating License No. DPR-72: Amendment revises the Technical Specifications.

Date of initial notice in Federal Register: February 24, 2009 (74 FR 8284). The supplemental letter was included in the initial proposed no significant hazards consideration.

The Commission's related evaluation of the amendment is contained in a Safety Evaluation dated May 29, 2009.

No significant hazards consideration comments received: No.

Florida Power and Light Company, et al., Docket Nos. 50-335 and 50-389, St. Lucie Plant, Unit Nos. 1 and 2, St. Lucie County, Florida

Date of application for amendments: February 12, 2009.

Brief description of amendments: The amendments deleted those portions of Technical Specifications (TSs) superseded by Title 10 of the Code of Federal Regulations (10 CFR), Part 26, Subpart I. This change is consistent with Nuclear Regulatory Commission approved Technical Specification Task Force (TSTF) Improved Standard Technical Specification Change Traveler TSTF-511, Revision 0, “Eliminate Working Hour Restrictions from TS 5.2.2 to Support Compliance with 10 CFR Part 26.”

Date of Issuance: May 27, 2009.

Effective Date: As of the date of issuance and shall be implemented within 60 days of issuance.

Amendment Nos.: 208 and 156.

Renewed Facility Operating License Nos. DPR-67 and NPF-16: Amendments revised the TSs.

Date of initial notice in Federal Register: March 24, 2009 (74 FR 12393).

The Commission's related evaluation of the amendments is contained in a Safety Evaluation dated May 27, 2009.

No significant hazards consideration comments received: No.

FPL Energy Duane Arnold, LLC, Docket No. 50-331, Duane Arnold Energy Center, Linn County, Iowa

Date of application for amendment: May 30, 2008, as supplemented by letters dated July 17, 2008, September 10, 2008, and February 27, 2009.

Brief description of amendment: The proposed amendment would revise Technical Specifications (TS) Table 3.3.8.1-1, “Loss of Power Instrumentation,” specifically to change the maximum allowable voltage of the 4.16-kV Emergency Bus Undervoltage function from less-than-or-equal-to 3899 V to less-than-or-equal-to 3822 V.

Date of issuance: May 15, 2009.

Effective date: As of the date of issuance and shall be implemented within 30 days.

Amendment No.: 273.

Facility Operating License No. DPR-49: The amendment revised the Technical Specifications.

Date of initial notice in Federal Register: October 21, 2008 (73 FR 62565). The supplements dated July 17, 2008, September 10, 2008, and February 27, 2009 provided additional information that clarified the application, did not expand the scope of the application, and did not change the Commission's proposed no significant hazards consideration determination.

The Commission's related evaluation of the amendment is contained in a Safety Evaluation dated May 15, 2009.

No significant hazards consideration comments received: No.

PSEG Nuclear LLC, Docket Nos. 50-354, 50-272 and 50-311, Hope Creek Generating Station and Salem Nuclear Generating Station, Unit Nos. 1 and 2, Salem County, New Jersey

Date of application for amendments: January 5, 2009.

Brief description of amendments: The amendments eliminate unnecessary reporting requirements in the Facility Operating Licenses (FOLs) and Technical Specifications (TSs). Specifically, the amendments delete: (1) Section 2.F of the FOL for Hope Creek Generating Station; (2) Section 2.I of the FOL for Salem Nuclear Generating Station, Unit No. 2; and (3) Technical Specification (TS) 6.9.3 for all three units. A notice of availability for this FOL and TS improvement using the consolidated line item improvement process was published by the Nuclear Regulatory Commission in the Federal Register on November 4, 2005 (70 FR 67202).

Date of issuance: June 2, 2009.

Effective date: As of the date of issuance, to be implemented within 60 days.

Amendment Nos.: 178, 291 and 275.

Facility Operating License Nos. NPF-57, DPR-70 and DPR-75: The amendments revised the TSs and the Licenses.

Date of initial notice in Federal Register: February 24, 2009 (74 FR 8287).

The Commission's related evaluation of the amendments is contained in a Safety Evaluation dated June 2, 2009.

No significant hazards consideration comments received: No.

Tennessee Valley Authority, Docket Nos. 50-259, 50-260, and 50-296, Browns Ferry Nuclear Plant, Units 1, 2, and 3, Limestone County, Alabama

Date of application for amendments: October 30, 2008, as supplemented by a letter dated November 20, 2008.

Description of amendment request: The amendments (1) revised the frequency of Surveillance Requirement (SR) 3.1.3.2, notch testing of fully withdrawn control rod, from “7 days after the control rod is withdrawn and THERMAL POWER is greater than the LPSP [lower-power set-point] of RWM [rod worth minimizer]” to “31 days after the control rod is withdrawn and THERMAL POWER is greater than the LPSP of the RWM” and (2) revises Example 1.4-3 in Section 1.4 “Frequency” to clarify that the 1.25 surveillance test interval extension in SR 3.0.2 is applicable to time periods discussed in NOTES in the “SURVEILLANCE” column in addition to the time periods in the “FREQUENCY” column.

Date of issuance: May 29, 2009.

Effective date: Date of issuance, to be implemented within 30 days.

Amendment Nos.: 274, 301, and 260.

Renewed Facility Operating License Nos. DPR-33, DPR-52, and DPR-68: Amendments revised the Technical Specifications.

Date of initial notice in Federal Register: February 24, 2009 (74 FR 8288).

The Commission's related evaluation of the amendment is contained in a Safety Evaluation dated May 29, 2009.

No significant hazards consideration comments received: No.

Dated at Rockville, Maryland, this 5th day of June 2009.
For the Nuclear Regulatory Commission.
Joseph G. Giitter,
Director, Division of Operating Reactor Licensing, Office of Nuclear Reactor Regulation.

[FR Doc. E9-13999 Filed 6-15-09; 8:45 am]

BILLING CODE 7590-01-P